DEPARTMENT OF TRANSPORTATION

Federal Aviation Administration

Proposed Tower in Point Mackenzie Area, Alaska

AGENCY: Federal Aviation Administration (FAA), DOT.

ACTION: Notice of public meeting.

SUMMARY: The FAA will hold an informal public airspace meeting. Details: March 16, 2000; University of Alaska, Anchorage (UAA), Aviation Technology Complex on Merrill Field Airport, Anchorage, Alaska; 7:00 PM to 10:00 PM in room 127 (auditorium). The objective of this meeting is to provide an opportunity to gather additional facts relevant to the aeronautical effects of the proposed tower, and to provide interested persons an opportunity to discuss objections to the proposal.

DATES: The meeting will be held in the auditorium at the UAA Aviation Technology Complex, 2811 Merrill Field Drive, Anchorage, AK. Times: 7:00 PM to 10:00 PM, on March 16, 2000.

FOR FURTHER INFORMATION CONTACT: Jack Schommer, Operations Branch, AAL-532, Federal Aviation Administration, 222 West 7th Avenue, Box 14, Anchorage, AK 99513-7587; telephone number (907) 271-5903; fax: (907) 271-2850; email: Jack.Schommer@faa.gov. Internet address: http://www.alaska.faa.gov/at. UAA Aviation Technology Complex phone number is (907) 264-7400.

SUPPLEMENTARY INFORMATION:

History

On October 19, 1999, Morris Communications Corporation submitted FAA Form 7460-1, Notice of Proposed Construction or Alteration, for a new tower site. This proposed tower site would become the new site for the KFQD-AM in Anchorage. The proposed tower would be 410 feet above ground level (AGL), 547 feet mean sea level (MSL), and built to FAA specifications for structures of this height, including proper marking and lighting. Morris Communications Corporation indicated they made an extensive search to locate a site which would not impact flight safety and allow KFQD to continue to serve South Central Alaska with a good quality signal. When this new site is completed, Morris Communications Corporation will dismantle the current tower located in south Anchorage at Lake Otis Parkway and Abbott Road.

The aeronautical study number assigned was 99-AAL-191-OE. A Notice to the Public was issued on November 23, 1999, requesting comments on the proposed 410 foot AGL antenna tower located approximately nine (9) nautical miles (nm) northwest of Anchorage, Alaska, seven (7) nm north of Point Mackenzie, and six (6) nm southwest of the Goose Bay airport.

The proposed tower would not exceed the obstruction standards of the Federal Aviation Regulation, Part 77, Subpart C. The Minimum Vectoring Altitude in the proposed tower area is 1,600 feet MSL, which provides the minimum 1,000 feet required obstacle clearance. The proposed tower location would not interfere with existing FAA and Federal Communications Commission (FCC) communication towers. The Matanuska-Susitna (Mat-Su) Borough Planning Commission approved the land use permit for the proposed tower.

A Notice to the Public was issued because the proposed tower is in close proximity to a Visual Check Point at Twin Island Lake and may be on or near a Visual Flight Rules (VFR) route. Additionally, it was known that construction of any towers in the Point Mackenzie area would be controversial.

In response to the Notice to the Public, twenty-two (22) letters and email were received. Comments in opposition came from the Municipal Airports Aviation Advisory Commission (MAAAC), Alaskan Aviation Safety Foundation (AASF), Alaska Airmen's Association, Rust's Flying Service, Alaska Wing Civil Air Patrol, and 16 other individuals. Concerns raised included: 1) tower would be located in a heavily traveled VFR flyway between Anchorage and Mat-Su valley lakes, airports, and airstrips; 2) area is occasionally used for military training; 3) area is a possible waterfowl flyway; 4) with the Anchorage Instrument Landing System (ILS) approach to runway 14 over the area, the possible creation of a wake turbulence hazard may exist; 5) the existence of the proposed tower may interfere with air-to-ground communications; 6) the location of the proposed tower presents a possible collision hazard by being near the existing Twin Island Lake Visual Check Point; and 7) proliferation of towers in the Point Mackenzie area.

Meeting Procedures

(a) The meeting will be informal in nature and will be conducted by representatives of the FAA Alaskan Region.

(b) The meeting will be open to all persons on a space-available basis. Every effort was made to provide a meeting site with sufficient seating capacity for the expected participation. There will be no admission fee nor other charge to attend and participate.

(c) Any person wishing to make a presentation to the FAA Team will be asked to sign in and estimate the amount of time needed for such presentation. This will permit the Team to allocate an appropriate amount of time for each presenter. The Team may limit the time available for each presentation in order to accommodate all speakers. The meeting will not be adjourned until everyone on the list has had an opportunity to address the panel. The meeting may be adjourned at any time once all persons present have had the opportunity to speak.

(d) Any person who wishes to present a position paper to the Team pertinent to the aeronautical impact of the tower may do so.

(e) Persons wishing to hand out pertinent position papers to the attendees should present two copies to the presiding officer and have sufficient additional copies available for all attendees.

(f) The meeting will not be formally recorded. However, informal tape recordings may be made of the presentations to ensure that each respondent's comments are noted accurately.

(g) An official verbatim transcript or minutes of the informal airspace meeting will not be made. However, a list of the attendees, written statements received from attendees during and after the meeting, and a digest of discussions during the meeting will be included in the aeronautical study file.

(h) Every reasonable effort will be made to hear each request for presentation consistent with a reasonable closing time for the meeting. Written materials may also be submitted to the Team for up to seven (7) days after the close of the meeting.

Agenda

(a) Opening Remarks and Discussion of Meeting Procedures

(b) Briefing on Tower Proposal

(c) Public Presentations

(d) Closing Comments

* * * * *

Issued in Anchorage, AK, on February 9, 2000.
Willis C. Nelson,
Manager, Air Traffic Division, Alaskan Region.

[FR Doc. 00-3700 Filed 2-15-00; 8:45 am]

BILLING CODE 4910-13-P